DEPARTMENT OF ENERGY

Federal Energy Regulatory Commission

Combined Notice of Filings #1

Take notice that the Commission received the following electric corporate filings:

Docket Numbers: EC25-68-000.

Applicants: Catalyst Power Parent LLC.

Description: Supplement to 03/24/2025, Application for Authorization Under Section 203 of the Federal Power Act of Catalyst Power Parent LLC.

Filed Date: 5/29/25.

Accession Number: 20250529-5366.

Comment Date: 5 p.m. ET 6/9/25.

Take notice that the Commission received the following exempt wholesale generator filings:

Docket Numbers: EG25-342-000.

Applicants: Sholes Energy Storage, LLC.

Description: Sholes Energy Storage, LLC submits Notice of Self-Certification of Exempt Wholesale Generator Status.

Filed Date: 6/3/25.

Accession Number: 20250603-5124.

Comment Date: 5 p.m. ET 6/24/25.

Docket Numbers: EG25-343-000.

Applicants: Greeley Wind Nebraska, LLC.

Description: Greeley Wind Nebraska, LLC submits Notice of Self-Certification of Exempt Wholesale Generator Status.

Filed Date: 6/3/25.

Accession Number: 20250603-5125.

Comment Date: 5 p.m. ET 6/24/25.

Docket Numbers: EG25-344-000.

Applicants: Rumble Solar, LLC.

Description: Rumble Solar, LLC submits Notice of Self-Certification of Exempt Wholesale Generator Status.

Filed Date: 6/3/25.

Accession Number: 20250603-5133.

Comment Date: 5 p.m. ET 6/24/25.

Take notice that the Commission received the following electric rate filings:

Docket Numbers: ER10-1333-017; EL24-27-000; ER10-2566-014; ER13-2387-011; ER13-2322-010; ER15-190-022; ER19-1819-006; ER19-1820-006; ER19-1821-006; ER18-1343-016; ER21-2426-002.

Applicants: CPRE 1 Lessee, LLC, Carolina Solar Power, LLC, Speedway Solar NC, LLC, Stony Knoll Solar, LLC, Broad River Solar, LLC, Duke Energy Renewable Services, LLC, Duke Energy Progress, Inc., Duke Energy Florida, Inc., Duke Energy Carolinas, LLC, Duke Energy Commercial Enterprises, LLC, Duke Energy Commercial Enterprises, Inc.

Description: Response to Show Cause Order to December 7, 2023, Order on Updated Market Power Analysis, Instituting Section 206 Proceeding, and Establishing Refund Effective Date re Duke Energy Commercial Enterprises, LLC et. al.

Filed Date: 1/31/24.

Accession Number: 20240131-5646.

Comment Date: 5 p.m. ET 6/24/25.

Docket Numbers: ER10-1618-021.

Applicants: Rolling Hills Generating, L.L.C.

Description: Compliance filing: Market-Based Rate Tariff Revisions to be effective 6/4/2025.

Filed Date: 6/3/25.

Accession Number: 20250603-5070.

Comment Date: 5 p.m. ET 6/24/25.

Docket Numbers: ER10-1631-023.

Applicants: University Park Energy, LLC.

Description: Compliance filing: Market-Based Rate Tariff Revisions to be effective 6/4/2025.

Filed Date: 6/3/25.

Accession Number: 20250603-5075.

Comment Date: 5 p.m. ET 6/24/25.

Docket Numbers: ER10-1854-023.

Applicants: Doswell Limited Partnership.

Description: Compliance filing: Market-Based Rate Tariff Revisions to be effective 6/4/2025.

Filed Date: 6/3/25.

Accession Number: 20250603-5048.

Comment Date: 5 p.m. ET 6/24/25.

Docket Numbers: ER10-2744-024.

Applicants: Riverside Generating Company, L.L.C.

Description: Compliance filing: Market-Based Rate Tariff Revisions to be effective 6/4/2025.

Filed Date: 6/3/25.

Accession Number: 20250603-5066.

Comment Date: 5 p.m. ET 6/24/25.

Docket Numbers: ER11-3320-023.

Applicants: LSP University Park, LLC.

Description: Compliance filing: Market-Based Rate Tariff Revisions to be effective 6/4/2025.

Filed Date: 6/3/25.

Accession Number: 20250603-5059.

Comment Date: 5 p.m. ET 6/24/25.

Docket Numbers: ER11-3321-015.

Applicants: Wallingford Energy LLC.

Description: Compliance filing: Market-Based Rate Tariff Revisions to be effective 6/4/2025.

Filed Date: 6/3/25.

Accession Number: 20250603-5077.

Comment Date: 5 p.m. ET 6/24/25.

Docket Numbers: ER13-2316-021.

Applicants: Seneca Generation, LLC.

Description: Compliance filing: Market-Based Rate Tariff Revisions to be effective 6/4/2025.

Filed Date: 6/3/25.

Accession Number: 20250603-5071.

Comment Date: 5 p.m. ET 6/24/25.

Docket Numbers: ER14-19-022.

Applicants: West Deptford Energy, LLC.

Description: Compliance filing: Market-Based Rate Tariff Revisions to be effective 6/4/2025.

Filed Date: 6/3/25.

Accession Number: 20250603-5078.

Comment Date: 5 p.m. ET 6/24/25.

Docket Numbers: ER14-2548-013.

Applicants: Ocean State Power.

Description: Compliance filing: Market-Based Rate Tariff Revisions to be effective 6/4/2025.

Filed Date: 6/3/25.

Accession Number: 20250603-5061.

Comment Date: 5 p.m. ET 6/24/25.

Docket Numbers: ER16-1732-017.

Applicants: Aurora Generation, LLC.

Description: Compliance filing: Market-Based Rate Tariff Revisions to be effective 6/4/2025.

Filed Date: 6/3/25.

Accession Number: 20250603-5040.

Comment Date: 5 p.m. ET 6/24/25.

Docket Numbers: ER16-1760-002.

Applicants: Armstrong Power, LLC.

Description: Compliance filing: Market-Based Rate Tariff Revisions to be effective 6/4/2025.

Filed Date: 6/3/25.

Accession Number: 20250603-5039.

Comment Date: 5 p.m. ET 6/24/25.

Docket Numbers: ER16-1764-002.

Applicants: Troy Energy, LLC.

Description: Compliance filing: Market-Based Rate Tariff Revisions to be effective 6/4/2025.

Filed Date: 6/3/25.

Accession Number: 20250603-5074.

Comment Date: 5 p.m. ET 6/24/25.

Docket Numbers: ER16-2405-017.

Applicants: Rockford Power II, LLC.

Description: Compliance filing: Market-Based Rate Tariff Revisions to be effective 6/4/2025.

Filed Date: 6/3/25.

Accession Number: 20250603-5068.

Comment Date: 5 p.m. ET 6/24/25.

Docket Numbers: ER16-2406-018.

Applicants: Rockford Power, LLC.

Description: Compliance filing: Market-Based Rate Tariff Revisions to be effective 6/4/2025.

Filed Date: 6/3/25.

Accession Number: 20250603-5067.

Comment Date: 5 p.m. ET 6/24/25.

Docket Numbers: ER17-989-016.

Applicants: Chambersburg Energy, LLC.

Description: Compliance filing: Market-Based Rate Tariff Revisions to be effective 6/4/2025.

Filed Date: 6/3/25.

Accession Number: 20250603-5046.

Comment Date: 5 p.m. ET 6/24/25.

Docket Numbers: ER17-990-016.

Applicants: Gans Energy, LLC.

Description: Compliance filing: Market-Based Rate Tariff Revisions to be effective 6/4/2025.

Filed Date: 6/3/25.

Accession Number: 20250603-5051.

Comment Date: 5 p.m. ET 6/24/25.

Docket Numbers: ER17-992-016.

Applicants: Springdale Energy, LLC.

Description: Compliance filing: Market-Based Rate Tariff Revisions to be effective 6/4/2025.

Filed Date: 6/3/25.

Accession Number: 20250603-5073.

Comment Date: 5 p.m. ET 6/24/25.

Docket Numbers: ER17-993-016.

Applicants: Bath County Energy, LLC.

Description: Compliance filing: Market-Based Rate Tariff Revisions to be effective 6/4/2025.

Filed Date: 6/3/25.

Accession Number: 20250603-5041.

Comment Date: 5 p.m. ET 6/24/25.

Docket Numbers: ER17-1946-016.

Applicants: Helix Ironwood, LLC

Description: Compliance filing: Market-Based Rate Tariff Revisions to be effective 6/4/2025.

Filed Date: 6/3/25.

Accession Number: 20250603-5053.

Comment Date: 5 p.m. ET 6/24/25.

Docket Numbers: ER17-1947-009.

Applicants: Helix Maine Wind Development, LLC.

Description: Compliance filing: Market-Based Rate Tariff Revisions to be effective 6/4/2025.

Filed Date: 6/3/25.

Accession Number: 20250603-5054.

Comment Date: 5 p.m. ET 6/24/25.

Docket Numbers: ER18-95-013.

Applicants: Buchanan Energy Services Company, LLC.

Description: Compliance filing: Market-Based Rate Tariff Revisions to be effective 6/4/2025.

Filed Date: 6/3/25.

Accession Number: 20250603-5045.

Comment Date: 5 p.m. ET 6/24/25.

Docket Numbers: ER20-1440-009.

Applicants: Yards Creek Energy, LLC.

Description: Compliance filing: Market-Based Rate Tariff Revisions to be effective 6/4/2025.

Filed Date: 6/3/25.

Accession Number: 20250603-5079.

Comment Date: 5 p.m. ET 6/24/25.

Docket Numbers: ER21-1133-006.

Applicants: Hummel Station, LLC.

Description: Compliance filing: Market-Based Rate Tariff Revisions to be effective 6/4/2025.

Filed Date: 6/3/25.

Accession Number: 20250603-5057.

Comment Date: 5 p.m. ET 6/24/25.

Docket Numbers: ER22-2480-001.

Applicants: Black Hills Power, Inc.

Description: Tariff Amendment: Amendment to Filing of Jurisdictional Agreements to be effective 12/31/9998.

Filed Date: 6/3/25.

Accession Number: 20250603-5102.

Comment Date: 5 p.m. ET 6/24/25.

Docket Numbers: ER24-1431-005.

Applicants: Southwestern Public Service Company.

Description: Compliance filing: 2025.06.03—Settlement Compliance Filing to be effective 5/8/2024.

Filed Date: 6/3/25.

Accession Number: 20250603-5052.

Comment Date: 5 p.m. ET 6/24/25.

Docket Numbers: ER24-2009-001.

Applicants: ISO New England Inc., New England Power Pool Participants Committee.

Description: Compliance filing: ISO New England Inc. submits tariff filing per 35: Further Revisions in Compliance with Order Nos. 2023 and 2023-A to be effective 8/12/2024.

Filed Date: 6/3/25.

Accession Number: 20250603-5134.

Comment Date: 5 p.m. ET 6/24/25.

Docket Numbers: ER25-2404-000.

Applicants: Southwest Power Pool, Inc.

Description: § 205(d) Rate Filing: 4406 SPS Surplus Interconnection GIA to be effective 8/2/2025.

Filed Date: 6/3/25.

Accession Number: 20250603-5014.

Comment Date: 5 p.m. ET 6/24/25.

Docket Numbers: ER25-2406-000.

Applicants: PJM Interconnection, L.L.C.

Description: § 205(d) Rate Filing: Amendment to WMPA, Service Agreement No. 7314; Queue Position No. AG1-532 to be effective 8/3/2025.

Filed Date: 6/3/25.

Accession Number: 20250603-5028.

Comment Date: 5 p.m. ET 6/24/25.

Docket Numbers: ER25-2407-000.

Applicants: New York State Electric & Gas Corporation, New York Independent System Operator, Inc.

Description: § 205(d) Rate Filing: New York Independent System Operator, Inc. submits tariff filing per 35.13(a)(2)(iii: NYISO-NYSEG 205: Third Amended LGIA Baron Winds (CEII) to be effective 5/19/2025.

Filed Date: 6/3/25.

Accession Number: 20250603-5033.

Comment Date: 5 p.m. ET 6/24/25.

Docket Numbers: ER25-2410-000.

Applicants: Green Grid Energy LLC.

Description: Initial Rate Filing: Application for Market Based Rate Authority to be effective 8/2/2025.

Filed Date: 6/3/25.

Accession Number: 20250603-5056.

Comment Date: 5 p.m. ET 6/24/25.

Docket Numbers: ER25-2411-000.

Applicants: Dominion Energy South Carolina, Inc.

Description: § 205(d) Rate Filing: Canadys E P Agreement to be effective 8/4/2025.

Filed Date: 6/3/25.

Accession Number: 20250603-5062.

Comment Date: 5 p.m. ET 6/24/25.

Docket Numbers: ER25-2412-000.

Applicants: PacifiCorp.

Description: § 205(d) Rate Filing: PNGC Power—NITSA (SA No. 1159) to be effective 7/1/2025.

Filed Date: 6/3/25.

Accession Number: 20250603-5097.

Comment Date: 5 p.m. ET 6/24/25.

Docket Numbers: ER25-2413-000.

Applicants: PJM Interconnection, L.L.C.

Description: § 205(d) Rate Filing: Amendment to ISA, Service Agreement No. 7101; Queue No. AE1-072 to be effective 8/3/2025.

Filed Date: 6/3/25.

Accession Number: 20250603-5106.

Comment Date: 5 p.m. ET 6/24/25.

Docket Numbers: ER25-2414-000.

Applicants: Beaver Creek Solar, LLC.

Description: § 205(d) Rate Filing: Application for Market-Based Rate Authorization to be effective 8/2/2025.

Filed Date: 6/3/25.

Accession Number: 20250603-5130.

Comment Date: 5 p.m. ET 6/24/25.

Docket Numbers: ER25-2415-000.

Applicants: Panama Energy Center, LLC.

Description: § 205(d) Rate Filing: Application for Market-Based Rate Authorization—Panama Energy Ctr. to be effective 8/2/2025.

Filed Date: 6/3/25.

Accession Number: 20250603-5136.

Comment Date: 5 p.m. ET 6/24/25.

Docket Numbers: ER25-2416-000.

Applicants: Weld Energy Storage, LLC.

Description: § 205(d) Rate Filing: Application for Market-Based Rate Authorization—Weld Energy Storage, LLC to be effective 8/2/2025.

Filed Date: 6/3/25.

Accession Number: 20250603-5137.

Comment Date: 5 p.m. ET 6/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 3, 2025.
Carlos D. Clay,
Deputy Secretary.

[FR Doc. 2025-10379 Filed 6-6-25; 8:45 am]

BILLING CODE 6717-01-P